DEPARTMENT OF JUSTICE

Notice of Lodging of Consent Decree Under the Clean Water Act

On December 22, 2021, the Department of Justice filed a complaint in, and simultaneously lodged a Consent Decree with, the United States District Court for the Eastern District of Pennsylvania in the matter of United States of America, and the Commonwealth of Pennsylvania, Department of Environmental Protection v. Bucks County Water and Sewer Authority, Civil Action No. 21-cv-557 (E.D. Pa.).

The Complaint alleges that the Bucks County Water and Sewer Authority (the “Authority”) violated its National Pollutant Discharge Elimination System permits, the Clean Water Act, and the Pennsylvania Clean Streams law by failing to prohibit unpermitted discharges in the form of sanitary sewer overflows (“SSOs”) and failing to properly operate and maintain its system.

The proposed Consent Decree seeks to resolve the alleged claims in the complaint. The Parties' express purpose entering into this Consent Decree is for the Authority to take all measures necessary to comply with the Clean Water Act and the regulations promulgated thereunder, and the Clean Streams Law and the regulations promulgated thereunder, and to ensure compliance with any applicable permits issued to Defendant concerning the proper operation and maintenance of the Authority's waste water treatment plants and collection systems. The proposed Consent Decree establishes injunctive relief measures to achieve the above purposes, and secures a civil penalty in the amount of $450,000.

The publication of this notice opens a period for public comment on the proposed Consent Decree. Comments should be addressed to the Assistant Attorney General, Environment and Natural Resources Division, and should refer to United States of America, and the Commonwealth of Pennsylvania, Department of Environmental Protection v. Bucks County Water and Sewer Authority, Civil Action No. 21-cv-557 (E.D. Pa.)., D.J. Ref. No. 90-5-1-1-10715. All comments must be submitted no later than thirty (30) days after the publication date of this notice. Comments may be submitted by email or by mail:

To submit comments: | Send them to:
By email | pubcomment-ees.enrd@usdoj.gov.
By mail | Assistant Attorney General U.S. DOJ—ENRD P.O. Box 7611, Washington, DC 20044-7611.

During the public comment period, the proposed amendments to the Consent Decree may be examined and downloaded at this Justice Department website: https://www.justice.gov/enrd/consent-decrees. We will provide a paper copy of the proposed amendments upon written request and payment of reproduction costs. Please mail your request and payment to: Consent Decree Library, U.S. DOJ—ENRD, P.O. Box 7611, Washington, DC 20044-7611.

Please enclose a check or money order for $26.50 (25 cents per page reproduction cost) payable to the United States Treasury.

Jeffrey Sands,
Assistant Section Chief, Environmental Enforcement Section, Environment and Natural Resources Division.

[FR Doc. 2021-28197 Filed 12-27-21; 8:45 am]

BILLING CODE 4410-15-P